DEPARTMENT OF DEFENSE

Department of the Navy

Meeting of the Ocean Research and Resources Advisory Industry Sub-Panel

AGENCY: Department of the Navy, DoD.

ACTION: Notice of open meeting.

SUMMARY: The Ocean Research and Resources Advisory Industry Sub-Panel will hold a meeting. The meeting will be open to the public.

DATES: The meeting will be held on Tuesday, May 24, 2011, from 8:30 a.m. to 5:30 p.m. and Wednesday, May 25, 2011, from 8:30 a.m. to 5 p.m. Members of the public should submit their comments in advance of the meeting to the meeting Point of Contact.

ADDRESSES: The meeting will be held at the Consortium for Ocean Leadership, 1201 New York Avenue, NW., 4th Floor, Washington, DC 20005.

FOR FURTHER INFORMATION CONTACT: Dr. Charles L. Vincent, Office of Naval Research, 875 North Randolph Street, Suite 1425, Arlington, VA 22203-1995, telephone 703-696-4118.

SUPPLEMENTARY INFORMATION: This notice of open meeting is provided in accordance with the Federal Advisory Committee Act (5 U.S.C. App. 2). Featuring Federal agencies and members of industry, this meeting will facilitate open discussions and creative problem-solving to overcome impediments to industry progress toward deploying operational projects.

Dated: April 11, 2011.
D.J. Werner,
Lieutenant Commander, Office of the Judge Advocate General, U.S. Navy, Federal Register Liaison Officer.

[FR Doc. 2011-9275 Filed 4-15-11; 8:45 am]

BILLING CODE 3810-FF-P